COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 8/27/2012.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or email CMTEFedReg@AbilityOne.gov.

SUPPLEMENTARY INFORMATION:

Additions

On 5/11/2012 (77 FR 27737-27738) and 6/1/2012 (77 FR 32591-32592), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

Tools, Digging, Fiberglass Handle

NSN: 5120-00-NIB-0014—Shovel, Round Point, Closed Back, Industrial Grade, 48″ Fiberglass Handle, Cushioned Grip

NSN: 5120-00-NIB-0015—Shovel, Round Point, Open Back, Industrial Grade, 48″ Fiberglass Handle, Cushioned Grip

NSN: 5120-00-NIB-0016—Shovel, Round Point, Open Back, Industrial Grade, 29″ Fiberglass Handle, D-grip

NSN: 5120-00-NIB-0017—Shovel, Square Point, Open Back, Industrial Grade, 48″ Fiberglass Handle, Cushioned Grip

NSN: 5120-00-NIB-0018—Shovel, Square Point, Open Back, Industrial Grade, 29″ Fiberglass Handle, D-grip

NSN: 5120-00-NIB-0019—Shovel, General Purpose, Steel Scoop, Industrial Grade, 48″ Fiberglass Handle, Cushioned Grip

NSN: 5120-00-NIB-0020—Shovel, General Purpose, Steel Scoop, Industrial Grade, 29″ Fiberglass Handle, D-grip

NSN: 5120-00-NIB-0021—Shovel, Grain, Aluminum Scoop, Industrial Grade, 51″ Fiberglass Handle, Cushioned Grip

NSN: 5120-00-NIB-0022—Shovel, Grain, Aluminum Scoop, Industrial grade, 29″ Fiberglass Handle, D-grip

NSN: 5120-00-NIB-0023—Shovel, Grain, ABS Scoop, Industrial Grade, 51″ Fiberglass Handle, Cushioned Grip

NSN: 5120-00-NIB-0024—Shovel, Grain, ABS Scoop, Industrial Grade, 29″ Fiberglass Handle, D-Grip

NSN: 5120-00-NIB-0025—Shovel, Snow, ABS Scoop, Industrial Grade, 40″ Fiberglass Handle, D-grip

NSN: 5120-00-NIB-0026—Shovel, Snow Pusher, ABS Scoop, Industrial Grade, 40″ Fiberglass Handle, D-grip

NSN: 3750-00-NIB-0004—Rake, Bow, Leaf, ABS Head, Industrial Grade, 51″ Fiberglass Handle, Cushioned-Grip

NSN: 3750-00-NIB-0005—Rake, Bow, Leaf, Steel Head, Industrial Grade, 57″ Fiberglass Handle, Cushioned-Grip

NSN: 3750-00-NIB-0006—Rake, Flat, Leaf, Steel Head, Industrial Grade, 62″ Fiberglass Handle, Cushioned-Grip

NSN: 3750-00-NIB-0007—Hoe, Mortar, Steel Head, Industrial Grade, 62″ Fiberglass Handle, Cushioned-Grip

NSN: 3750-00-NIB-0008—Hoe, Garden, Steel Head, Industrial Grade, 57″ Fiberglass Handle, Cushioned-Grip

NSN: 5110-00-NIB-0036—Scraper, Ice/Floor, Steel Head, Industrial Grade, 49″ Fiberglass Handle, Cushioned-Grip

NSN: 3895-00-NIB-0001—Tamper, Cast Iron Head, Industrial Grade, 42″ Fiberglass Handle, Cushioned-Grip

NSN: 3895-00-NIB-0002—Asphalt Lute, Aluminum Head, Industrial Grade, 67″ Fiberglass Handle, Cushion-Grip

NPA: Keystone Vocational Services, Inc., Sharon, PA

Contracting Activity: General Services Administration, Kansas City, MO

Coverage: B-List for the Broad Government Requirement as aggregated by the General Services Administration.

Padlock Sets, Solid Case

NSN: 5340-01-588-1819—1.5″ Wide Brass, Keyed Differently, w/Chain, EA

NSN: 5340-01-588-1010—1.75″ Wide Steel, Keyed Differently, w/Chain, EA

NSN: 5340-01-588-1036—1.75″ Wide Steel, Keyed Differently, No Chain, EA

NSN: 5340-01-588-1676—1.5″ Wide Brass, 3 Keys, Keyed Alike, w/Chain, 5/SE

Coverage: A-List for the Total Government Requirement as aggregated by the Defense Logistics Agency Troop Support.

NSN: 5340-00-NIB-0123—1.75″ Wide Steel, Keyed Differently, w/Chain, 6/SE

NSN: 5340-01-588-1863—1.5″ Wide Brass, Keyed Differently, 3″ Extra Long Shackle, w/Chain, EA

NSN: 5340-01-588-1709—1.5″ Wide Brass, Keyed Differently, 3″ Extra Long Shackle, No Chain, EA

NSN: 5340-01-588-1916—1.75″ Wide Steel, Keyed Differently, 3″ Extra Long Shackle, w/Chain, EA

NSN: 5340-01-588-1924—1.75″ Wide Brass, Keyed Differently, w/Chain, EA

NSN: 5340-01-588-1891—1.5″ Wide Brass, Keyed Alike, w/Chain, 5/SE

NSN: 5340-01-588-1911—1.5″ Wide Brass, Keyed Alike, 3″ X-Long Shackle, w/Chain, 5/SE

NSN: 5340-01-588-1846—1.5″ Wide Brass, Keyed Alike, w/Chain, 6/SE

NSN: 5340-01-588-1827—1.5″ Wide Brass, Keyed Alike, w/Chain, 10/SE

NSN: 5340-01-588-1831—1.5″ Wide Brass, Keyed Alike, w/Chain, 20/SE

NSN: 5340-01-588-1895—1.5″ Wide Brass, Keyed Alike, w/Chain, 25/SE

NSN: 5340-01-588-1838—1.5″ Wide Brass, Keyed Alike, w/Chain, 30/SE

NSN: 5340-01-588-1841—1.5″ Wide Brass, Keyed Alike, w/Chain, 100/SE

NSN: 5340-01-588-1905—1.75″ Wide Steel, Keyed Alike, 3″ Extra Long Shackle, w/Chain, EA

NSN: 5340-01-588-1954—1.75″ Wide Steel, Keyed Alike, w/Chain, 6/SE

NSN: 5340-01-588-1928—1.75″ Wide Steel, Keyed Alike, w/Chain, 10/SE

NSN: 5340-01-588-1960—1.75″ Wide Steel, Keyed Alike, w/Chain, 24/SE

NSN: 5340-01-588-1567—1.5″ Wide Brass, Master Keyed, w/Chain, 5/SE

NSN: 5340-01-588-1582—1.5″ Wide Brass, Master Keyed, w/Chain, 10/SE

NSN: 5340-01-588-1091—1.5″ Wide Brass, Master Keyed, w/Chain, 20/SE

NSN: 5340-01-588-1563—1.5″ Wide Brass, Master Keyed, w/Chain, 30/SE

NSN: 5340-01-588-1044—1.75″ Wide Brass, Master Keyed, w/Chain, 40/SE

NSN: 5340-01-588-1063—1.5″ Wide Brass, Master Keyed, w/Chain, 50/SE

NSN: 5340-01-588-1031—1.5″ Wide Brass, Master Keyed, w/Chain, 100/SE

NSN: 5340-01-588-1592—1.5″ Wide Brass, Grand Master Keyed, w/Chain, 13/SE, 5-5-3 Groupings

NSN: 5340-01-588-1596—1.5″ Wide Brass, Grand Master Keyed, w/Chain, 30/SE, 15-10-5 Groupings

NSN: 5340-01-588-1652—1.5″ Wide Brass, Grand Master Keyed, w/Chain, 30/SE, 15-5-10L Groupings

NSN: 5340-01-588-1657—1.5″ Wide Brass, Grand Master Keyed, w/Chain, 40/SE, 15-5-20L Groupings

NSN: 5340-01-588-1641—1.5″ Wide Brass, Grand Master Keyed, w/Chain, 50/SE, 20-20-10 Groupings

NSN: 5340-01-588-1646—1.75″ Wide Brass, Grand Master Keyed, w/Chain, 55/SE, 35-10-10L Groupings

NSN: 5340-01-588-1664—1.75″ Wide Brass, Grand Master Keyed, w/Chain, 80/SE, 45-15-20L Groupings

NSN: 5340-01-588-1687—1.75″ Brass, Grand Master Keyed, w/Chain, 80/SE, 30-30-20 Groupings

Coverage: B-List for the Broad Government Requirement as aggregated by the Defense Logistics Agency Troop Support.

NPA: L.C. Industries for the Blind, Inc., Durham, NC

Contracting Activity: Defense Logistics Agency Troop Support, Philadelphia, PA

Pencil Sharpener, Electric, Hands Free

NSN: 7520-01-241-4229

NPA: Blind Center of Nevada, Inc., Las Vegas, NV

Contracting Activity: General Services Administration, New York, NY

Coverage: A-List for the Total Government Requirement as aggregated by the General Services Administration.

Medical Kit Items

NSN: 6515-01-NIB-7233—Splint, 4.25″ x 36″, Universal

NSN: 6510-00-NIB-0300—Dressing, Chest Seal Wound, 6″ x 8″

NSN: 6510-00-NIB-3325—Bandage, Gauze, Impregnated, 3″ x 144″

NSN: 6510-00-NIB-8884—Adhesive Tape, Surgical, 3″ x 360″

NSN: 6515-01-NIB-7138—Scissors, Bandage

NSN: 6532-01-NIB-6932—Blanket, Survival, 107.25″ x 88.35″

NSN: 6515-01-NIB-1187—Nasal Trumpet

NSN: 6515-01-NIB-7226—Leash, Shears, Trauma

NSN: 6515-01-NIB-0635—Needle, Decompression Device

NSN: 6515-01-NIB-7976—Tourniquet, Non-pneumatic

NPA: Lighthouse Central Florida, Orlando, FL

Contracting Activity: Defense Logistics Agency Troop Support, Philadelphia, PA

Coverage: C-List for 100% of the requirement of the Department of Defense, as aggregated by the Defense Logistics Agency Troop Support, Philadelphia, PA.

Tray, Mess, 5 Compartment, Tan, 12½” x 8½”

NSN: 7350-01-411-5266

NPA: The Lighthouse for the Blind in New Orleans, Inc., New Orleans, LA

Contracting Activity: Defense Logistics Agency Troop Support, Philadelphia, PA

Coverage: C-List for an additional 30% of the requirement of the Department of Defense, bringing the requirement on the Procurement List to 100%, as aggregated by the Defense Logistics Agency Troop Support, Philadelphia, PA.

Services

Service Type/Location: Mess Attendant, Joint Expeditionary Base (JEB) Little Creek, Ft Story East Campus, Light House Cafe, Building 864, 864 Hospital Road, Virginia Beach, VA

NPA: Community Alternatives, Incorporated, Norfolk, VA

Contracting Activity: Dept of the Navy, NAVSUP FLT LOG CTR Norfolk, Norfolk, VA

Service Type/Location: Fleet & Facility Maintenance, National Nuclear Security Administration (NNSA), Office of Secure Transportation (OST), Agent Operations Eastern Command (AOEC), 9714 Flannigan Loop Road, Oak Ridge, TN

NPA: Skookum Educational Programs, Bremerton, WA

Contracting Activity: Department of Energy, National Nuclear Security Admn Business Svcs Division, Washington, DC

Service Type/Location: Record Processing Services, Army Medical Department, Patient Administrative Division, MEDCOM, Fort Sam Houston, TX

NPA: Goodwill Industries of San Antonio, San Antonio, TX

Contracting Activity: Dept of the ARMY, W40M USA MEDCOM HCAA, Fort Sam Houston, TX

Barry S. Lineback,
Director, Business Operations.

[FR Doc. 2012-18370 Filed 7-26-12; 8:45 am]

BILLING CODE 6353-01-P